DEPARTMENT OF THE TREASURY

Customs Service

[T.D. 02-61]

Recordation of Trade Name: “ORTHOTEC”

ACTION: Notice of Application for Recordation of Trade Name.

SUMMARY: Application has been filed pursuant to section 133.12, Customs Regulations (19 CFR 133.12), for the recordation under section 42 of the Act of July 5, 1946, as amended (15 U.S.C. 1124), of the trade name “ORTHOTEC”. The trade name is owned by Orthotec, LLC, a Delaware Limited Liability Company organized and created in the State of Delaware, 9595 Wilshire Blvd., Suite 502, Beverly Hills, California 90212.

The application states that the trade name is used on medical devices, more specifically, surgical implants made of stainless steel or titanium for spinal surgery, comprised of hooks, bolts, screws, rods, instruments and containers to hold the goods and instruments.

The merchandise is manufactured in the United States.

Before final action is taken on the application, consideration will be given to any relevant data, views, or arguments submitted in writing by any person in opposition to the recordation of this trade name. Notice of the action taken on the application for recordation of this trade name will be published in the Federal Register.

This item previously appeared in the Customs Bulletin on October 23, 2002. The time for public comments has since been extended to 60 days from the date of this publication in the Federal Register.

DATES: Comments must be received or on before January 6, 2003.

ADDRESSES: Written comments should be addressed to U.S. Customs Service, Attention: Office of Regulations & Rulings, Intellectual Property Rights Branch, 1300 Pennsylvania Avenue, NW. (Mint Annex), Washington, DC 20229.

FOR FURTHER INFORMATION CONTACT: Gwendolyn Savoy, Intellectual Property Rights Branch, 1300, Pennsylvania Avenue, NW., Washington, DC 20229, (202) 572-8710.

Dated: November 4, 2002.
Joanne Roman Stump,
Chief, Intellectual Property Rights Branch.

[FR Doc. 02-28347 Filed 11-6-02; 8:45 am]

BILLING CODE 4820-02-P